NATIONAL AERONAUTICS AND SPACE ADMINISTRATION

[Notice: 01-161]

Notice of Agency Report Forms Under OMB Review

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)). The financial recordkeeping information and reports obtained through this collection are used by NASA to ensure proper accountability for and use of NASA-provided funds.

DATES: Comments on this proposal should be received by January 28, 2002.

ADDRESSES: All comments should be addressed to Desk Officer for NASA; Office of Information and Regulatory Affairs; Office of Management and Budget; Room 10236; New Executive Office Building; Washington, DC, 20503.

FOR FURTHER INFORMATION CONTACT: Ms. Nancy Kaplan, NASA Reports Officer, (202) 358-1372.

Title: Financial Monitoring and Control, Grants.

OMB Number: 2700-0049.

Type of review: Extension.

Need and Uses: Information is used by NASA to effectively maintain an appropriate internal control system for grants and cooperative agreements with institutions of higher education and other non-profit organizations, and to comply with statutory requirements on the accountability of public funds.

Affected Public: Not-for-profit institutions.

Number of Respondents: 7,149.

Responses Per Respondent: 5.

Annual Responses: 37,696.

Hours Per Request: 7½ hrs.

Annual Burden Hours: 284,792.

Frequency of Report: On occasion.

David B. Nelson,
Deputy Chief Information Officer, Office of the Administrator.

[FR Doc. 01-31956 Filed 12-27-01; 8:45 am]

BILLING CODE 7510-01-P